DEPARTMENT OF JUSTICE

Antitrust Division

Notice Pursuant to the National Cooperative Research and Production Act of 1993—Z-Wave Alliance, Inc.

Notice is hereby given that, on March 14, 2025, pursuant to section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, 3i Technologies Sdn. Bhd, Kuala Lumpur, MALAYSIA; InWave Ltd., Urom, HUNGARY; Ace Micro Services Ltd, Nairobi, REPUBLIC OF KENYA; Home Tech Solution, Ottawa, CANADA; SmartWings Home LLC, Austin, TX; Siterwell Electronics Co., Limited, Ningbo, PEOPLE'S REPUBLIC OF CHINA; Seacomp, Carlsbad, CA; D-3 Technology Co. Limited, Hong Kong, PEOPLE'S REPUBLIC OF CHINA; Arcadyan Technology Corporation, Hsinchu City, REPUBLIC OF CHINA(TAIWAN); WePower Technologies LLC, Sagaponack, NY; and Bluesalve Partners LLC, Ashburn, VA have been added as parties to this venture.

Also, Smart Systems LLC, Moscow, RUSSIAN FEDERATION; F3 Wireless, Minneapolis, MN; Quext, LLC, Lubbock, TX; DEN Smart Home, Enschede, KINGDOM OF THE NETHERLANDS; Danfoss A/S, Nordborg, KINGDOM OF DENMARK; Viva Labs AS, Oslo, KINGDOM OF NORWAY; and Hubbell, Shelton, CT have withdrawn as parties to this venture.

Additionally, the following members have changed their names: Bluesalve Partners LLC to Blueconnect Partners, Ashburn, VA; Control4 to Snap One, Salt Lake City, UT; and U-tec Group Inc. to Xthings Industry LLC, Fremont, CA.

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on December 16, 2024. A notice was published in the Federal Register pursuant to section 6(b) of the Act on February 3, 2025 (90 FR 8816).

Suzanne Morris,
Deputy Director Civil Enforcement Operations, Antitrust Division.

[FR Doc. 2025-06803 Filed 4-18-25; 8:45 am]

BILLING CODE 4410-11-P